FEDERAL COMMUNICATIONS COMMISSION

47 CFR Parts 51 and 63

[PS Docket No. 14-74, GN Docket No. 13-5, WC Docket Nos. 05-25 and 13-3, RM-11358 and RM-10593; Report No. 3055]

Petitions for Reconsideration and Clarification of Action in Rulemaking Proceeding

AGENCY: Federal Communications Commission.

ACTION: Petitions for reconsideration and clarification.

SUMMARY: Petitions for Reconsideration and Clarification (Petitions) have been filed in the Commission's rulemaking proceeding by David Springe and David C. Bergmann, on behalf of NASUCA, and Kathy D. Smith, on behalf of NTIA.

DATES: Oppositions to the Petition must be filed on or before December 8, 2016. Replies to an opposition must be filed on or before December 19, 2016.

ADDRESSES: Federal Communications Commission, 445 12th Street SW., Washington, DC 20554.

FOR FURTHER INFORMATION CONTACT: Alex Johns, Wireline Competition Bureau, Competition Policy Division, (202) 418-1167, or send an email to Alexis.Johns@fcc.gov.

SUPPLEMENTARY INFORMATION: This is a summary of the Commission's document, Report No. 3055, released November 9, 2016. The full text of the Petitions is available for viewing and copying at the FCC Reference Information Center, 445 12th Street SW., Room CY-A257, Washington, DC 20554 or may be accessed online via the Commission's Electronic Comment Filing System at http://apps.fcc.gov/ecfs/. The Commission will not send a copy of this document pursuant to the Congressional Review Act, 5 U.S.C. 801(a)(1)(A), because this document does not have an impact on any rules of particular applicability.

Subject: Technology Transitions; USTelecom Petition for Declaratory Ruling that Incumbent Local Exchange Carriers are Non-Dominant in the Provision of Switched Access Services; Policies and Rules Governing Retirement of Copper Loops by Incumbent Local Exchange Carriers, FCC 16-90, published at 81 FR 62632, September 12, 2016, in WC Docket No. 13-5; RM-11358. This document is being published pursuant to 47 CFR 1.429(e). See also 47 CFR 1.4(b)(1) and 1.429(f), (g).

Number of Petitions Filed: 2.

Federal Communications Commission.
Marlene H. Dortch,
Secretary.

[FR Doc. 2016-28199 Filed 11-22-16; 8:45 am]

BILLING CODE 6712-01-P